DEPARTMENT OF STATE

[Public Notice: 11515]

Industry Advisory Group; Notice of Charter Renewal

The Department of State has renewed the charter for the Bureau of Overseas Buildings Operations' (OBO) Industry Advisory Group for an additional two-year period. The committee advises OBO's senior management on issues relating to real property portfolio management, planning, acquisition, sales, leasing, design, engineering, construction, historic preservation, resiliency, natural hazards, emergency operations, program development, as well as facilities operations and maintenance.

OBO provides safe, secure, functional, and resilient facilities that represent the U.S. government to the host nation and support staff in the achievement of U.S. foreign policy objectives. These facilities represent American values and the best in American architecture, design, engineering, technology, sustainability, art, culture, and construction execution.

The authority for this Notice is the Federal Advisory Committee Act, 5 U.S.C. appendix. For further information, please contact Christine Foushee at FousheeCT@state.gov.

Kevin E. Bryant,
Deputy Director, Office of Directives Management, U.S. Department of State.

[FR Doc. 2021-18227 Filed 8-24-21; 8:45 am]

BILLING CODE 4710-51-P